DEPARTMENT OF THE TREASURY

Submission for OMB Review; Comment Request

June 27, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 7, 2000 to be assured of consideration.

Bureau of Alcohol, Tobacco and Firearms (BATF)

OMB Number: 1512-0046.

Form Number: ATF F 27-G.

Type of Review: Extension.

Title: Applications—Volatile Fruit-Flavor Concentrate Plants.

Description: Persons who wish to establish premises to manufacture volatile fruit-flavor concentrates are required to file an application so requesting. ATF uses the application information to identify persons responsible for such manufacture, since these products contain ethyl alcohol and have potential for use as alcoholic beverages with consequent loss of revenue. The application constitutes registry of a still, a statutory requirement.

Respondents: Business of other for-profit.

Estimated Number of Recordkeepers: 10.

Estimated Burden Hours Per Recordkeeper: 3 hours.

Frequency of Response: On occasion.

Estimated Total Recordkeeping Burden: 30 hours.

OMB Number: 1512-0138.

Form Number: ATF F 5120.20.

Type of Review: Extension.

Title: Certification of Tax Determination—Wine.

Description: ATF F 5120.20 supports the exporter's claim for drawback, as the producing winery verifies that the wine being exported was in fact taxpaid.

Respondents: Business or other for-profit.

Estimated Number of Recordkeepers: 1,000.

Estimated Burden Hours Per Recordkeeper: 30 minutes.

Frequency of Response: On occasion.

Estimated Total Recordkeeping Burden: 500 hours.

OMB Number: 1512-0191.

Form Number: ATF F 5100.16.

Type of Review: Extension.

Title: Application for Transfer of Spirits and/or Denatured Spirits in Bond.

Description: ATF F 5100.16 is completed by distilled spirits plant proprietors who wish to receive spirits in bond from other distilled spirits plants. ATF uses the information to determine if the applicant has sufficient bond coverage for the additional tax liability assumed when spirits are transferred in bond.

Respondents: Business or other for-profit.

Estimated Number of Respondents: 250.

Estimated Burden Hours Per Respondent: 12 minutes.

Frequency of Response: On occasion.

Estimated Total Reporting Burden: 300 hours.

OMB Number: 1512-0192.

Recordkeeping Requirement ID Number: ATF REC 5110/02.

Form Number: ATF F 5110.11.

Type of Review: Extension.

Title: Distilled Spirits Plants Warehousing Records, ATF REC 5110/02 and Reports, ATF F 5110.11.

Description: The information collected is used to account for proprietor's tax liability, adequacy of bond coverage and protection of the revenue. It also provides data to analyze trends, audit plant operations, monitor industry activities and compliance to provide for efficient allocation of field personnel plus provide for economic analysis.

Respondents: Business or other for-profit.

Estimated Number of Respondents/Recordkeepers: 230.

Estimated Burden Hours Per Respondent/Recordkeeper: 2 hours.

Frequency of Response: Monthly.

Estimated Total Reporting/Recordkeeping Burden: 5,520 hours.

OMB Number: 1512-0203.

Recordkeeping Requirement ID Number: ATF REC 5110/06.

Type of Review: Extension.

Title: Distilled Spirits Plants—Excise Taxes.

Description: Collection of information is necessary to account for and verify taxable removals of distilled spirits. The data is used to audit tax payments.

Respondents: Business or other for-profit.

Estimated Number of Recordkeepers: 133.

Estimated Burden Hours Per Recordkeeper: 26 hours.

Frequency of Response: Weekly.

Estimated Total Recordkeeping Burden: 3,458 hours.

OMB Number: 1512-0207.

Form Number: ATF F 5110.43.

Recordkeeping Requirement ID Number: ATF REC 5110/04.

Type of Review: Extension.

Title: Distilled Spirits Plant (DSP) Denaturation Records and Reports.

Description: The information collected is necessary to account for and verify the denaturation of distilled spirits. It is used to audit plant operations, monitor the industry for the efficient allocation of personnel resources, and compile statistics for government economic planning.

Respondents: Business or other for-profit.

Estimated Number of Respondents/Recordkeepers: 98.

Estimated Burden Hours Per Respondent/Recordkeeper: 1 hour.

Frequency of Response: Monthly.

Estimated Total Reporting/Recordkeeping Burden: 1,176 hours.

OMB Number: 1512-0460.

Recordkeeping Requirement ID Number: ATF REC 5110/12.

Type of Review: Extension.

Title: Equipment and Structures.

Description: Marks, signs, and calibrations are necessary on equipment and structures at a distilled spirits plant for the identification of major equipment and the accurate determination of contents..

Respondents: Business or other for-profit.

Estimated Number of Respondents: 281.

Estimated Burden Hours Per Respondent: 0 hours.

Frequency of Response: On occasion.

Estimated Total Reporting Burden: 1 hour.

OMB Number: 1512-0555.

Form Number: None.

Type of Review: Extension.

Title: Recordkeeping Requirements for Importers of Tobacco Products.

Description: Importers of tobacco products are required to maintain records of physical receipts and disposition of tobacco products to be able to prepare ATF Form 5220.6, a monthly report. Importers of tobacco products will consistent of both large and small businesses that operate for profit.

Respondents: Business or other for-profit.

Estimated Number of Recordkeepers: 1,500.

Estimated Burden Hours Per Recordkeeper: Usual and Customary.

Frequency of Response: Monthly.

Estimated Total Recordkeeping Burden: 1 hour.

Clearance Officer: Frank Bowers (202) 927-8930, Bureau of Alcohol, Tobacco and Firearms, Room 3200, 650 Massachusetts Avenue, NW, Washington, DC 20226.

OMB Reviewer: Alexander T. Hunt, (202) 395-7860, Office of Management and Budget, Room 10202, New Executive Office Building, Washington, DC 20503.

Lois K. Holland,
Departmental Reports Management Officer.

[FR Doc. 00-17235 Filed 7-6-00; 8:45 am]

BILLING CODE 4810-31-U